DEPARTMENT OF EDUCATION

Privacy Act of 1974; System of Records

AGENCY: Federal Student Aid, Department of Education.

ACTION: Notice of an altered system of records.

SUMMARY: In accordance with the Privacy Act of 1974, as amended (Privacy Act), the Chief Operating Officer for Federal Student Aid (FSA) of the Department of Education (Department) publishes this notice to revise the system of records entitled “National Student Loan Data System (NSLDS)” (18-11-06).

The Department revises to make necessary updates to the heading entitled “SYSTEM LOCATION” resulting from the Department's review of the system of records notice and to the heading entitled ”CATEGORIES OF INDIVIDUALS COVERED BY THE SYSTEM” in response to comments that the Department received regarding the Department's proposed revisions to the NSLDS system of records.

The Office of Management and Budget (OMB) Circular A-130, Appendix I, indicates that minor changes to systems of records need not be reported. In this notice, we are making minor changes to the NSLDS system of records, as explained in the SUPPLEMENTARY INFORMATION section. Therefore, the Department has not filed a report describing the altered system of records covered by this notice with the Chair of the Senate Committee on Homeland Security and Governmental Affairs, the Chair of the House Committee on Oversight and Government Reform, or the Administrator of the Office of Information and Regulatory Affairs, OMB.

DATES: This altered system of records will become effective April 2, 2014.

FOR FURTHER INFORMATION CONTACT: Director, NSLDS Systems, Operations and Aid Delivery Management Services, FSA, U.S. Department of Education, UCP, 830 First Street NE., room 41F1, Washington, DC 20202-5454. Telephone: 202-377-3547.

If you use a telecommunications device for the deaf (TDD) or a text telephone (TTY), call the Federal Relay Service (FRS), toll free, at 1-800-877-8339.

SUPPLEMENTARY INFORMATION:

Introduction

The Privacy Act of 1974 (5 U.S.C. 552a(e)(4) and (11)) requires the Department to publish this notice of an altered system of records in the Federal Register. The Department's regulations implementing the Privacy Act are in the Code of Federal Regulations (CFR), in 34 CFR part 5b.

The Privacy Act applies to information about an individual that is maintained in a system of records from which information is retrieved by a unique identifier associated with each individual, such as a name or Social Security number (SSN). The information about each individual is called a “record,” and the system, whether manual or computer-based, is called a “system of records.”

The Privacy Act requires each Federal agency to publish a notice of a new or altered system of records in the Federal Register and to prepare, whenever the agency publishes a new system of records or makes a significant change to an established system of records, a report to the Chair of the Committee on Oversight and Government Reform of the House of Representatives, the Chair of the Committee on Homeland Security and Governmental Affairs of the Senate, and the Administrator of the Office of Information and Regulatory Affairs, OMB. A significant change must be reported whenever an agency expands the types or categories of information maintained, significantly expands the numbers, types, or categories of individuals about whom records are maintained, changes the purposes for which the information is used, changes equipment configuration in a way that creates substantially greater access to the records, or adds a routine use disclosure to the system. The Department has not filed a report describing the altered system of records covered by this notice because the changes we are making are minor.

Revisions

On June 28, 2013, the Department published a notice of an altered system of records for NSLDS in the Federal Register (78 FR 38963) and requested comments on those revisions. We received a comment in response to the June 2013 NSLDS system of records notice; in part, the commenter objected that the Department does not have the legal authority to maintain in NSLDS the records of students who do not receive aid under the title IV of the Higher Education Act of 1965, as amended (HEA) and who attended, or who are attending, a gainful employment program at a postsecondary educational institution. We are revising the CATEGORIES OF INDIVIDUALS COVERED BY THE SYSTEM section of the NSLDS system of records notice to clarify that the Department no longer will collect or maintain records of students who do not receive aid under title IV of the HEA and who attended, or who are attending a gainful employment program at a postsecondary educational institution in this system of records. The commenter also noted that we made a minor error in listing the date that the NSLDS was originally published in the Federal Register as being on December 27, 1999 (this was instead a date on which the NSLDS system of records notice was republished in full). The Department should have explained that the original system of records notice for NSLDS was published on June 29, 1994 (59 FR 33491), and altered on December 20, 1994 (59 FR 65532). We appreciate the commenter calling our attention to this and note that the full citation should read as follows: National Student Loan Data System (NSLDS)” (18-11-06), originally published on June 29, 1994 (59 FR 33491-33494), altered on December 20, 1994 (59 FR 65532-65535), republished on December 27, 1999 (64 FR 72395-72397), altered on September 7, 2010 (75 FR 54331-54336), altered on June 24, 2011 (76 FR 37095-37100), and most recently altered on June 28, 2013 (78 FR 38963-38969).

In addition, as a result of the Department's internal review of the system of records, we have determined that we because the Department cannot retrieve records from NSLDS back-up tapes using individual identifiers. Consequently, the Department's back-up tapes should not have been listed as being part of the NSLDS system of records, as that term is defined in section (a)(5) of the Privacy Act of 1974, as amended (5 U.S.C. 552a(a)(5)), and therefore we are deleting the location where the back-up tapes are maintained under the SYSTEM LOCATION section.

Accessible Format: Individuals with disabilities can obtain this document in an accessible format (e.g., braille, large print, audiotape or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 27, 2014.
James W. Runcie,
Chief Operating Officer, Federal Student Aid.

For the reasons discussed in the preamble, the Chief Operating Officer, Federal Student Aid, of the U.S. Department of Education (Department), publishes a notice of an altered system of records. The following amendments are made to the Notice of Altered System of Records entitled “National Student Loan Data System (NSLDS)” (18-11-06), as published in the Federal Register on June 28, 2013 (78 FR 38963-38969):

1. On page 38964, third column, under the heading “SYSTEM LOCATION”, the paragraph is revised to read as follows:

SYSTEM LOCATION:

Dell Perot Systems, 2300 West Plano Parkway, Plano, TX 75075-8247. (This is the computer center for the NSLDS Application Virtual Data Center.)

2. On pages 38964, third column, and 38965, first column, under the heading “CATEGORIES OF INDIVIDUALS COVERED BY THE SYSTEM,” the paragraph is revised to read as follows:

CATEGORIES OF INDIVIDUALS COVERED BY THE SYSTEM:

This system contains records on persons who were recipients of aid under the title IV, Higher Education Act of 1965, as amended (HEA) programs.

This system contains records on borrowers who received loans under the William D. Ford Federal Direct Loan (Direct Loan) Program, the Federal Family Education Loan (FFEL) Program, the Federal Insured Student Loan (FISL) Program, and the Federal Perkins Loan Program (including National Defense Student Loans, National Direct Student Loans, and Perkins Expanded Lending and Income Contingent Loans) (Perkins Loans). The system also contains records on recipients of Federal Pell Grants, Academic Competitiveness Grants (ACG), National Science and Mathematics Access to Retain Talent (National SMART) Grants, Teacher Education Assistance for College and Higher Education (TEACH) Grants, and Iraq and Afghanistan Service Grants, as well as on persons who owe an overpayment on a Federal Pell Grant, an ACG Grant, a National SMART Grant, a Federal Supplemental Educational Opportunity Grant (FSEOG), an Iraq and Afghanistan Service Grant, and a Federal Perkins Loan.

NSLDS further contains student enrollment information for persons who have received title IV, HEA student assistance as well as Master Conduit Loan Program Data, Loan Participation Program (LPP) Data, and loan-level detail on FFEL Subsidized, Unsubsidized, and PLUS loans funded through those programs.

The system also contains records on students who are title IV, HEA recipients and who attended, or who are attending a gainful employment program at a postsecondary educational institution.

The system also contains records on the level of study, CIP code, and published length of an educational program in which a student receiving title IV, HEA Federal student aid is enrolled to limit his or her eligibility for Direct Subsidized Loans to no more than 150 percent of the published length of the educational program in which the student is enrolled, and to determine the periods for which a borrower who enrolls after reaching the 150 percent limit will be responsible for the accruing interest on outstanding Direct Subsidized Loans.

[FR Doc. 2014-07294 Filed 4-1-14; 8:45 am]

BILLING CODE 4000-01-P